DEPARTMENT OF THE INTERIOR

National Park Service

[NPS-WASO-NRNHL-DTS#-28349; PPWOCRADI0, PCU00RP14.R50000]

National Register of Historic Places; Notification of Pending Nominations and Related Actions

AGENCY: National Park Service, Interior.

ACTION: Notice.

SUMMARY: The National Park Service is soliciting comments on the significance of properties nominated before June 29, 2019, for listing or related actions in the National Register of Historic Places.

DATES: Comments should be submitted by August 5, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 29, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

DISTRICT OF COLUMBIA

District of Columbia

Capital Traction Company Union Station, (Streetcar and Bus Resources of Washington, DC MPS), 3600 M Street NW, Washington, MP100004248

IOWA

Linn County

Coggon Commercial Historic District, (Iowa's Main Street Commercial Architecture MPS), East Main Street between 1st Street South and 3rd Street North, Coggon, MP100004229

Polk County

Farmhouse, Olmsted Family, 4010 70th St., Urbandale, SG100004230

MICHIGAN

Mackinac County

Hessel School, 3206 West Cedar Street, Hessel, SG100004234

MONTANA

Broadwater County

Valley Masonic Lodge No. 21, 131 South Spruce St., Townsend, SG100004236

NEW YORK

Delaware County

McNaught Family Farm, 289 McNaught Hill Road, Bovina Center vicinity, SG100004241

Erie County

Delaware Avenue Medical Center, 1275 Delaware Avenue, Buffalo, SG100004247

Kings County

Fourth Avenue Methodist Episcopal Church, 4616 Fourth Avenue, Brooklyn, SG100004245

Montgomery County

Fultonville Historic District, Generally Main St., Prospect St., Franklin St., Union St., Riverside Dr., Fultonville, SG100004242

New York County

Dorrance Brooks Square Historic District, Edgecombe Avenue, West 136th-140th Streets, New York, SG100004239

32nd Police Precinct Station House Complex, 1850-1854 Amsterdam Avenue, New York, SG100004243

Rockland County

Camp Hill School, 100 Ladentown Road, Pomona, SG100004244

Schenectady County

Alexandra Apartment Hotel, 1-3 State Street, New York, SG100004246

Suffolk County

East Marion Main Road Historic District, Generally Main Road, Bay Avenue, and Cemetery Avenue, East Marion, SG100004238

Frederick and Annie Wagner Residence and St. Patrick's Roman Catholic Church, 37 Juniper Avenue & 38 Mayflower Avenue,

Smithtown, SG100004240

OHIO

Hamilton County

Manse Hotel and Manse Hotel Annex, (Twentieth-Century African American Civil Rights Movement in Ohio), 916-926 Chapel Street, 1004 Chapel Street, Cincinnati, MP100004232

Scioto County

Eugene McKinley Memorial Pool

(Twentieth-Century African American Civil Rights Movement in Ohio), 1529 Findlay Street, Portsmouth, MP100004233

TEXAS

Dallas County

McGaugh Hosiery Mills-Airmaid Mills Building, 4408 2nd Ave., Dallas, SG100004249

Harris County

Petroleum Building, 1314 Texas Avenue, Houston, SG100004250

VIRGINIA

Clarke County

Stone's Chapel, 4138 Crums Church Road, Berryville, SG100004259

Isle of Wight County

Isle of Wight County Courthouse Complex, 17140 Monument Circle, Smithfield vicinity, SG100004263P

Nike-Ajax Missile Launch Site N-751, 13036 Nike Park Rd., Carrollton vicinity, SG100004266

King and Queen County

Nelson, Chief Otho S., and Susie P., House, Address Restricted, Indian Neck vicinity, SG100004262

Richmond Independent City

Third Street Bethel A.M.E. Church (Boundary Increase), 6110-614 N. 3rd St., Richmond, BC100004265

Roanoke Independent City

American Viscose Plant Historic District, Roughly 9th St. SE, Industry Ave. SE, River Ave. SE, and Progressive Dr. SE, Roanoke, SG100004260

Suffolk Independent City

Samuel Eley House, 4801 Pruden Blvd., Suffolk, SG100004261

Westmoreland County

Kirnan-Church Hall, 498 Zion Church Road, Hague, SG100004257

Wise County

Appalachia Commercial Historic District, Along W. Main St., Kentucky Ave., Powell St, Appalachia, SG100004258

WISCONSIN

Crawford County

Fay, Benjamin F., and Wilhelmina House, 203 S. Wacouta Ave., Prairie du Chien, SG100004227

Additional documentation has been received for the following resources:

NEW YORK

Warren County

Wiawaka Holiday House, NY 9L, SE of Lake George, Lake George, AD98000874

VIRGINIA

Richmond Independent City

Third Street Bethel A.M.E. Church (Additional Documentation), 616 N. 3rd St., Richmond, AD75002117

Nominations submitted by Federal Preservation Officers:

The State Historic Preservation Officer reviewed the following nominations and responded to the Federal Preservation Officer within 45 days of receipt of the nominations and supports listing the properties in the National Register of Historic Places.

ALASKA

Lake and Peninsula Borough

Two Lakes Archeological District, Address Restricted, Port Alsworth vicinity, SG100004254

COLORADO

Montrose County

Henry Huff Cabin, Address Restricted, Naturita vicinity, SG100004228

MICHIGAN

Keweenaw County

Tobin Harbor Historic District, Eagle Harbor Township, Eagle Harbor, SG100004256

OREGON

Klamath County

Army Corps of Engineers Road System, Crater Lake National Park, Crater Lake, SG100004255

Authority: Section 60.13 of 36 CFR part 60

Dated: July 2, 2019.
Julie H. Ernstein,
Acting Chief, National Register of Historic Places/National Historic Landmarks Program.

[FR Doc. 2019-15399 Filed 7-18-19; 8:45 am]

BILLING CODE 4312-52-P